DEPARTMENT OF HOMELAND SECURITY

Coast Guard

33 CFR Part 117

[Docket No. USCG-2017-0449]

Drawbridge Operation Regulation; Lake Champlain, North Hero Island, VT

AGENCY: Coast Guard, DHS.

ACTION: Notice of deviation from drawbridge regulation.

SUMMARY: The Coast Guard has issued a temporary deviation from the operating schedule that governs the US2 Bridge across Lake Champlain, mile 91.8, between North Hero and South Hero Island, Vermont. This deviation is necessary to extend the operating life of the drawbridge until a replacement bridge is constructed. This deviation allows the bridge to open only on the hour during the day for the 2017 boating season.

DATES: This deviation is effective without actual notice from May 26, 2017 through 8 p.m. on October 15, 2016. For the purposes of enforcement, actual notice will be used from May 18, 2017, until May 26, 2017.

ADDRESSES: The docket for this deviation, USCG-2017-0449, is available at http://www.regulations.gov. Type the docket number in the “SEARCH” box and click “SEARCH”. Click on Open Docket Folder on the line associated with this deviation.

FOR FURTHER INFORMATION CONTACT: If you have questions on this temporary deviation, call or email Jeffrey Stieb; Bridge Management Specialist, First Coast Guard District, telephone 617-223-8364, email Jeffrey.D.Stieb@uscg.mil.

SUPPLEMENTARY INFORMATION: The bridge owner, Vermont Agency of Transportation, requested a temporary deviation from the normal operating schedule of the US2 Bridge, mile 91.8, across Lake Champlain at North Hero Island, Vermont. The drawbridge navigation span has a vertical clearance of 18 feet at ordinary high water in the closed position. The existing bridge operating regulations are found at 33 CFR 117.993(b). The waterway is transited by seasonal recreational vessels of various sizes. Several marina facilities are in the area of the bridge.

In response to the request, the Coast Guard's First District has approved a deviation from 8 a.m. on May 18, 2017 to 8 p.m. on October 15, 2017, to conduct repairs to extend the life of the machinery which operates the drawbridge. During this deviation, the US2 Bridge shall open on signal only on the hour from 8 a.m. to 8 p.m.

Vessels that are able to pass under the bridge in the closed position may do so at anytime. The bridge will be able to open for emergencies, and for vessels unable to pass through the bridge in the closed position there is an alternate route to the north under the Alburg Passage US2 fixed bridge. The Alburg Passage US2 Bridge has a vertical clearance of 26 feet at ordinary high water. The Coast Guard will inform the users of the waterway through our Local Notice and Broadcast Notice to Mariners of the change in operating schedule so that vessel operators can arrange their transits to minimize any impact caused by the temporary deviation.

In accordance with 33 CFR 117.35(e), the drawbridge must return to its regular operating schedule immediately at the end of the effective period of this deviation. This deviation from the operating regulations is authorized under 33 CFR 117.35.

Dated: May 23, 2017.
C.J. Bisignano,
Supervisory Bridge Management Specialist, First Coast Guard District.

[FR Doc. 2017-10899 Filed 5-25-17; 8:45 am]

BILLING CODE 9110-04-P